SECURITIES AND EXCHANGE COMMISSION

[File No. 500-1]

In the Matter of China Infrastructure Investment Corp., Order of Suspension of Trading

March 4, 2015.

It appears to the Securities and Exchange Commission (“Commission”) that there is a lack of current and accurate information concerning the securities of China Infrastructure Investment Corp. (“CIIC”) because, among other things, it: (1) Has not filed any periodic reports since the Form 10-Q for the period ending September 30, 2011, filed on November 14, 2011; and (2) filed a Form 8-K on December 16, 2011, stating that the Chief Financial Officer (“CFO”) whose signature appears on Forms 10-K and 10-K/A for the year ending June 30, 2011, and on Form 10-Q for the quarter ending September 30, 2011, had resigned from CIIC on September 21, 2011, and had not prepared, reviewed, signed or authorized these filings.

The Commission is of the opinion that the public interest and the protection of investors require a suspension of trading in the securities of the above-listed company.

Therefore, it is ordered, pursuant to Section 12(k) of the Securities Exchange Act of 1934, that trading in the securities of CIIC is suspended for the period from 9:30 a.m. EST on March 4, 2015, through 11:59 p.m. EDT on March 17, 2015.

By the Commission.
Jill M. Peterson,
Assistant Secretary.

[FR Doc. 2015-05370 Filed 3-4-15; 4:15 pm]

BILLING CODE 8011-01-P